DEPARTMENT OF HOMELAND SECURITY

U.S. Citizenship and Immigration Services

[CIS No. 2592-16; DHS Docket No. USCIS-2015-0005]

RIN 1615-ZB61

Extension and Redesignation of the Republic of Yemen for Temporary Protected Status

AGENCY: U.S. Citizenship and Immigration Services, Department of Homeland Security.

ACTION: Notice.

SUMMARY: Through this Notice, the Department of Homeland Security (DHS) announces that the Secretary of Homeland Security (Secretary) is extending the designation of the Republic of Yemen (Yemen) for Temporary Protected Status (TPS) for 18 months, from March 4, 2017, through September 3, 2018, and redesignating Yemen for TPS for 18 months, effective March 4, 2017, through September 3, 2018. Through this Notice, DHS also sets forth procedures necessary for Yemeni nationals (or aliens having no nationality who last habitually resided in Yemen) either to re-register under the extension, if they already have TPS, and to apply for renewal of their Employment Authorization Documents (EAD) with U.S. Citizenship and Immigration Services (USCIS) or submit an initial registration application under the redesignation and apply for an EAD.

DATES: Extension of Designation of Yemen for TPS: The 18-month extension of the TPS designation of Yemen is effective March 4, 2017, and will remain in effect through September 3, 2018. The 60-day re-registration period runs from January 4, 2017 through March 6, 2017.

Redesignation of Yemen for TPS: The redesignation of Yemen for TPS is effective March 4, 2017, and will remain in effect through September 3, 2018, a period of 18 months. The 180-day initial registration period for new applicants under the Yemen TPS redesignation runs from January 4, 2017 through July 3, 2017.

FOR FURTHER INFORMATION CONTACT:

• For further information on TPS, including guidance on the application process and additional information on eligibility, please visit the USCIS TPS Web page at http://www.uscis.gov/tps.

• You can find specific information about this extension and redesignation of Yemen for TPS by selecting “Yemen” from the menu on the left side of the TPS Web page. You can also contact Guillermo Roman-Riefkohl, TPS Program Manager, Waivers and Temporary Services Branch, Service Center Operations Directorate, U.S. Citizenship and Immigration Services, Department of Homeland Security, 20 Massachusetts Avenue NW., Washington, DC 20529-2060; or by phone at 202-272-1533 (this is not a toll-free number). Note: The phone number provided here is solely for questions regarding this TPS Notice. It is not for individual case status inquiries.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

BIA—Board of Immigration Appeals

DHS—Department of Homeland Security

DOS—Department of State

EAD—Employment Authorization Document

FNC—Final Nonconfirmation

Government—U.S. Government

IJ—Immigration Judge

INA—Immigration and Nationality Act

OSC—U.S. Department of Justice, Office of Special Counsel for Immigration-Related Unfair Employment Practices

SAVE—USCIS Systematic Alien Verification for Entitlements Program

Secretary—Secretary of Homeland Security

TNC—Tentative Nonconfirmation

TPS—Temporary Protected Status

TTY—Text Telephone

USCIS—U.S. Citizenship and Immigration Services

The extension allows TPS beneficiaries to retain TPS through September 3, 2018, so long as they continue to meet the eligibility requirements for TPS. The redesignation of Yemen expands eligibility for TPS to include individuals who have been continuously residing in the United States since January 4, 2017. Previously, only individuals who had been continuously residing in the United States since September 3, 2015, were eligible for TPS under Yemen's designation. The Secretary has determined that an extension of Yemen's current designation for TPS is warranted because the conditions that supported its designation on the basis of ongoing armed conflict persist. Additionally, the Secretary has determined that a redesignation of Yemen for TPS is warranted due to the ongoing armed conflict and to the extraordinary and temporary conditions in Yemen that prevent Yemeni nationals from returning in safety. The redesignation will extend TPS protection to eligible individuals who have arrived in the United States after the eligibility cutoff dates established by Yemen's previous designation for TPS in September 2015. The redesignation is based on the Secretary's determinations under the statute that (1) there continues to be an ongoing armed conflict in Yemen and, due to such conflict, requiring the return of Yemeni nationals to Yemen would pose a serious threat to their personal safety, and (2) there are extraordinary and temporary conditions in Yemen that prevent Yemeni nationals from returning to Yemen in safety, and it is not contrary to the national interest of the United States to permit Yemeni nationals to remain temporarily in the United States.

For individuals who have already been granted TPS under Yemen's designation, the 60-day re-registration period runs from January 4, 2017 through March 6, 2017. USCIS will issue new EADs with a September 3, 2018, expiration date to eligible Yemen TPS beneficiaries who timely re-register and apply for EADs under this extension. Given the timeframes involved with processing TPS re-registration applications, DHS recognizes that not all re-registrants will receive new EADs before their current EADs expire on March 3, 2017. Accordingly, through this Notice, DHS automatically extends the validity of EADs issued under Yemen's TPS designation for 6 months, through September 3, 2017, and explains how TPS beneficiaries and their employers may determine which EADs are automatically extended and their impact on Employment Eligibility Verification (Form I-9) and E-Verify processes.

Under the redesignation, individuals who currently do not have TPS may submit an initial application during the 180-day initial registration period that runs from January 4, 2017 through July 3, 2017. In order to receive a grant of TPS, initial applicants under this redesignation must demonstrate that they have continuously resided in the United States since January 4, 2017 and been continuously physically present in the United States since March 4, 2017, in addition to meeting all other TPS eligibility criteria.

Applications for TPS that were filed pursuant to Yemen's September 2015 TPS designation and remain pending on January 4, 2017 will be treated as initial applications under this 2016 redesignation. Individuals who have a pending initial Yemen TPS application do not need to file a new Application for Temporary Protected Status (Form I-821).

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States, may not be removed, and may obtain work authorization, so long as they continue to meet the requirements of TPS.

• TPS beneficiaries may also be granted travel authorization as a matter of discretion.

• The granting of TPS does not result in or lead to permanent resident status.

• When the Secretary terminates a country's TPS designation, TPS benefits end, but former TPS beneficiaries continue to hold the same immigration status they maintained before TPS, if any (unless that status has since expired or been terminated), or any other lawfully obtained immigration status they received while registered for TPS.

When was Yemen designated for TPS?

On September 3, 2015, the Secretary designated Yemen for TPS based on ongoing armed conflict in the country that posed a serious threat to the personal safety of returning nationals. See Designation of the Republic of Yemen for Temporary Protected Status, 80 FR 53319 (Sept. 3, 2015). This announcement marks the first extension and the first redesignation of TPS for Yemen since its initial designation in September 2015.

What authority does the Secretary have to extend the designation of Yemen for TPS?

Section 244(b)(1) of the INA, 8 U.S.C. 1254a(b)(1), authorizes the Secretary, after consultation with appropriate U.S. Government (Government) agencies, to designate a foreign state (or part thereof) for TPS if the Secretary finds that certain country conditions exist.¹ The Secretary may then grant TPS to eligible nationals of that foreign state (or aliens having no nationality who last habitually resided in that state). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12, or 18 months. See INA section 244(b)(3)(C), 8 U.S.C. 1254a(b)(3)(C). If the Secretary determines that the foreign state no longer meets the conditions for TPS designation, the Secretary must terminate the designation. See INA section 244(b)(3)(B), 8 U.S.C. 1254a(b)(3)(B).

What is the Secretary's authority to redesignate Yemen for TPS?

In addition to extending an existing TPS designation, the Secretary, after consultation with appropriate Government agencies, may redesignate a country (or part thereof) for TPS. See INA section 244(b)(1), 8 U.S.C. 1254a(b)(1); see also INA section 244(c)(1)(A)(i), 8 U.S.C. 1254a(c)(1)(A)(i) (requiring that “the alien has been continuously physically present since the effective date of the most recent designation of the state”) (emphasis added). This is one of numerous instances in which the Secretary, and prior to the establishment of DHS, the Attorney General, has simultaneously extended a country's TPS designation and redesignated the country for TPS. See, e.g., Extension and Redesignation of Syria for Temporary Protected Status, 81 FR 50533 (Aug. 1, 2016); Extension and Redesignation of South Sudan for Temporary Protected Status, 81 FR 4051 (Jan. 25, 2016); Extension and Redesignation of Haiti for Temporary Protected Status, 76 FR 29000 (May 19, 2011); Extension of Designation and Redesignation of Liberia Under Temporary Protected Status Program, 62 FR 16608 (Apr. 7, 1997) (discussing legal authority for redesignation of a country for TPS).

When the Secretary designates or redesignates a country for TPS, he or she also has the discretion to establish the date from which TPS applicants must demonstrate that they have been “continuously resid[ing]” in the United States. See INA section 244(c)(1)(A)(ii), 8 U.S.C. 1254a(c)(1)(A)(ii). This discretion permits the Secretary to tailor the “continuous residence” date to offer TPS to the group of eligible individuals that the Secretary deems appropriate.

The Secretary has determined that the “continuous residence” date for applicants for TPS under the redesignation of Yemen shall be January 4, 2017. Initial applicants for TPS under this redesignation must also show they have been “continuously physically present” in the United States since March 4, 2017, which is the effective date of the Secretary's redesignation of Yemen. See INA section 244(c)(1)(A)(i), 8 U.S.C. 1254a(c)(1)(A)(i). For each initial TPS application filed under the redesignation, the final determination of whether the applicant has met the “continuous physical presence” requirement cannot be made until March 4, 2017. USCIS, however, will issue EADs, as appropriate, during the registration period in accordance with 8 CFR 244.5(b) to individuals who file their applications before March 4, 2017.

Why is the Secretary extending the TPS designation for Yemen and simultaneously redesignating Yemen for TPS through September 3, 2018?

DHS, in consultation with the Department of State, has conducted a thorough review of conditions in Yemen. Based on this review, the Secretary has determined that an 18-month extension of Yemen's designation for TPS is warranted because the conditions that supported its designation on the basis of ongoing armed conflict persist. Ongoing armed conflict within Yemen continues to pose a serious threat to the personal safety of returning nationals.

Furthermore, redesignation is warranted due to the continued deterioration of the conditions for civilians in Yemen and the resulting need to offer protection to individuals who have arrived in the United States after the eligibility cutoff dates established by Yemen's previous designation for TPS in September 2015. The redesignation is based on the dual statutory grounds of (1) ongoing armed conflict in Yemen and, due to such conflict, requiring the return of Yemen nationals to Yemen would pose a serious threat to their personal safety and (2) extraordinary and temporary conditions, stemming from the conflict and exacerbated by natural disasters, also prevent Yemeni nationals from returning to Yemen in safety and it is not contrary to the national interest of the United States to permit Yemeni nationals to remain temporarily in the United States.

In July 2014, the Houthis, a group from the northern region of Yemen opposed to the government, began a violent territorial expansion across Yemen. The Houthis took over the capital, Sana'a, in September 2014, consolidating control of Yemeni government ministries, infrastructure, and security forces. The conflict between the Houthis and the government escalated in March 2015, when a coalition of more than ten countries, led by Saudi Arabia, initiated air strikes against the Houthis. Since the March 2015 escalation, thousands have been killed and tens of thousands wounded. Out of a 2015 population of approximately 26.7 million, 3 million Yemenis have been internally displaced, and more than 180,000 people have fled the country.

The ongoing conflict has deepened Yemen's difficult economic and humanitarian situation. More than 80 percent of Yemenis require some form of humanitarian assistance. The food security situation has significantly deteriorated over the last year, with over 14- million people food insecure. The conflict has also severely impacted the delivery of basic services, including health services, water, sanitation, and education. Infrastructure damage as a result of the conflict has further constrained service delivery and relief efforts, as roads, bridges, flood control systems, health facilities, airports, and schools have been damaged or destroyed in the conflict. Even if a political resolution to the conflict is reached, Yemen will be faced with tremendous reconstruction needs. Additionally, thousands of landmines have been placed during the conflict, with mine clearance likely taking years to complete.

Many hospitals and health facilities have closed due to damage, destruction, or shortages of critical supplies or staff. Those that remain open struggle to function fully. The shortage in health care is disproportionately affecting children under five, pregnant women, and people with chronic diseases. A lack of fuel to pump clean water and conflict-related destruction and damage to water networks has left people unable to meet their basic water, hygiene, and sanitation needs, leading to an increased risk of disease outbreaks. There is now a cholera outbreak in Yemen; the number of suspected cases ballooned to 1,410 within three weeks of the outbreak being declared. Almost half of all school-aged children in Yemen are unable to attend school, largely due to the destruction of school buildings, or because the buildings are being used to shelter displaced persons or by warring parties to the conflict.

In addition to conflict-related damage, since Yemen's initial designation for TPS in September 2015, natural disasters have also contributed to infrastructure damage. Yemen was hit by two tropical cyclones, Chapala and Megh, in November 2015, inundating Yemen with 24 inches of rain in 48 hours, an amount seven times the annual average. Heavy rains again pounded Yemen on April 13-14, 2016. These storms caused loss of life; injuries; flooding; mudslides; damage to infrastructure; and shortages of food, water, medical supplies, and fuel.

Based upon this review and after consultation with appropriate Government agencies, the Secretary has determined that:

• The conditions that supported the September 3, 2015 designation of Yemen for TPS continue to be met. See INA section 244(b)(3)(A) and (C), 8 U.S.C. 1254a(b)(3)(A) and (C).

• There is ongoing armed conflict in Yemen and, due to such conflict, requiring the return of Yemen nationals to Yemen would pose a serious threat to their personal safety. See INA section 244(b)(1)(A), 8 U.S.C. 1254a(b)(1)(A).

• There are extraordinary and temporary conditions in Yemen that prevent Yemeni nationals from returning to Yemen in safety, and it is not contrary to the national interest of the United States to permit Yemeni nationals to remain temporarily in the United States. See INA section 244(b)(1)(C), 8 U.S.C. 1254a(b)(1)(C).

• The existing designation of Yemen for TPS should be extended for an additional 18-month period from March 4, 2017 through September 3, 2018. See INA section 244(b)(3)(C), 8 U.S.C. 1254a(b)(3)(C).

• Yemen should be redesignated for TPS for an 18-month period on the statutory bases of ongoing armed conflict and extraordinary and temporary conditions, effective March 4, 2017 through September 3, 2018. See INA section 244(b)(1)(A) and (C), and (b)(2); 8 U.S.C. 1254a(b)(1)(A) and (C), and (b)(2).

• TPS applicants must demonstrate that they have continuously resided in the United States since January 4, 2017 and been continuously physically present in the United States since March 4, 2017.

• There are approximately 1,000 current Yemen TPS beneficiaries who may apply for re-registration and be eligible to retain their TPS under the extension.

• It is estimated that an additional 150-450 individuals may become newly eligible for TPS under the redesignation.

Notice of Extension of the TPS Designation of Yemen and Redesignation of Yemen for TPS

By the authority vested in me as Secretary under INA section 244, 8 U.S.C. 1254a, I have determined, after consultation with the appropriate Government agencies, that the conditions that supported Yemen's designation for TPS in September 2015 based on the ongoing armed conflict in Yemen continue to be met. See INA section 244(b)(3)(A), 8 U.S.C. 1254a(b)(3)(A). I also have determined that there are extraordinary and temporary conditions in Yemen that prevent Yemeni nationals from returning to Yemen in safety, and that it is not contrary to the national interest of the United States to permit Yemeni nationals to remain temporarily in the United States. See INA section 244(b)(1)(C), 8 U.S.C. 1254a(b)(1)(C). On the basis of these determinations, I am simultaneously extending the existing TPS designation of Yemen for 18 months from March 4, 2017, through September 3, 2018, and redesignating Yemen for TPS for the same 18-month period. See INA section 244(b)(1)(A) and (C), and (b)(2); 8 U.S.C. 1254a(b)(1)(A) and (C), and (b)(2). I have also determined that to be eligible for TPS under the redesignation, individuals must demonstrate that they have continuously resided in the United States since January 4, 2017. See INA section 244(c)(1)(A)(ii), 8 U.S.C. 1254a(c)(1)(A)(ii).

Jeh Charles Johnson,
Secretary.

I am currently a Yemen TPS beneficiary. What should I do?

If you are a current TPS beneficiary whose TPS application was approved prior to January 4, 2017, then you need to file a re-registration application under the extension if you wish to maintain TPS benefits through September 3, 2018. You must use the Application for Temporary Protected Status (Form I-821) to re-register for TPS. The 60-day open reregistration period will run from January 4, 2017 through March 6, 2017.

I have a pending initial TPS application filed during the Yemen TPS registration period that ran from September 3, 2015, through March 1, 2016. What should I do?

If your TPS application is still pending on January 4, 2017, then you do not need to file a new Application for Temporary Protected Status (Form I-821). Pending TPS applications will be treated as initial applications under this redesignation. Therefore, if your TPS application is approved, you will be granted TPS through September 3, 2018. If you have a pending TPS application and you wish to have an EAD valid through September 3, 2018, please refer to Table 1 to determine whether you should file a new Application for Employment Authorization (Form I-765).

Table 1—Form and EAD Information for Pending TPS Applications
If . . . | And . . . | Then . . .
You requested an EAD during the previous initial registration period for Yemen TPS | You received an EAD with Category C19 or A12 | You must file a new Application for Employment Authorization (Form I-765) with the fee (or fee waiver request) if you wish to have a new EAD valid through Sept. 3, 2018.
| You did not receive an EAD with Category C19 or A12 | You do not need to file a new Application for Employment Authorization (Form I-765). If your TPS application is approved, your Application for Employment Authorization (Form I-765) will be approved through Sept. 3, 2018.
You did not request an EAD during the previous initial registration period for Yemen TPS | You wish to have an EAD valid through Sept. 3, 2018 | You must file a new Application for Employment Authorization (Form I-765) with the fee (or fee waiver request).
| You do not wish to have an EAD valid through Sept. 3, 2018 | You do not need to file a new Application for Employment Authorization (Form I-765).

I am not a current TPS beneficiary, and I do not have a TPS application pending. What are the procedures for initial registration for TPS under the Yemen redesignation?

If you are not a current Yemen TPS beneficiary, nor do you have a pending TPS application with USCIS, you may submit your TPS application during the 180-day initial registration period that will run from January 4, 2017 through July 3, 2017.

Required Application Forms and Fees To Register or Re-Register for TPS

To register or re-register for TPS, an applicant must submit the following two applications:

1. Application for Temporary Protected Status (Form I-821).

• If you are filing an initial application, you must pay the fee for the Application for Temporary Protected Status (Form I-821). See 8 CFR 244.2(f)(2) and 244.6 and information on initial filing on the USCIS TPS Web page at http://www.uscis.gov/tps.

• If you are filing an application for re-registration, you do not need to pay the fee for the Application for Temporary Protected Status (Form I-821). See 8 CFR 244.17.

2. Application for Employment Authorization (Form I-765).

• If you are applying for initial registration and want an EAD, you must pay the fee for the Application for Employment Authorization (Form I-765) only if you are age 14 through 65. No fee for the Application for Employment Authorization (Form I-765) is required if you are under the age of 14 or are over 65 and applying for initial registration.

• If you are applying for re-registration and want an EAD, you must pay the fee for the Application for Employment Authorization (Form I-765), regardless of your age.

• If you are not requesting an EAD, regardless of whether you are applying for initial registration or re-registration, you do not pay the fee for the Application for Employment Authorization (Form I-765).

You must submit both completed application forms together. If you are unable to pay for the application and/or biometric services fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. If you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may re-file your application packet before the initial filing deadline of July 3, 2017. If you submit your application with a fee waiver request before that deadline, but you receive a fee waiver denial and there are fewer than 45 days before the filing deadline (or the deadline has passed), you may still re-file your application within the 45-day period after the date on the USCIS fee waiver denial notice. Your application will not be rejected even if the filing deadline has passed, provided it is mailed within those 45 days and all other required information for the application is included. Note: If you wish, you may also wait to request an EAD and pay the Application for Employment Authorization (Form I-765) fee after USCIS grants you TPS, if you are found eligible. If you choose to do this, you would file the Application for Temporary Protected Status (Form I-821) with the fee and the Application for Employment Authorization (Form I-765) without the fee and without requesting an EAD.

Re-Filing a TPS Re-Registration Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C); 8 CFR 244.17(c). For more information on good cause for late re-registration, visit the USCIS TPS Web page at http://www.uscis.gov/tps. Note: Although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 2.

Table 2—Mailing Addresses
If . . . | Mail to . . .
You are applying through the U.S. Postal Service | USCIS, Attn: TPS Yemen, P.O. Box 7555, Chicago, IL 60680-6943.
You are using a non-U.S. Postal Service delivery service | USCIS, Attn: TPS Yemen, 131 S. Dearborn, 3rd Floor, Chicago, IL 60603-5517.

If you were granted TPS by an Immigration Judge (IJ) or the Board of Immigration Appeals (BIA), and you wish to request an EAD, or are re-registering for the first time following a grant of TPS by an IJ or the BIA, please mail your application to the appropriate address in Table 2. When submitting a re-registration application and/or requesting an EAD based on an IJ/BIA grant of TPS, please include a copy of the IJ or BIA order granting you TPS with your application. This will aid in the verification of your grant of TPS and processing of your application, as USCIS may not have received records of your grant of TPS by either the IJ or the BIA.

E-Filing

You cannot electronically file your application when re-registering or submitting an initial registration for Yemen TPS. Please mail your application to the mailing address listed in Table 2.

Supporting Documents

The filing instructions on the Application for Temporary Protected Status (Form I-821) list all the documents needed to establish basic eligibility for TPS. You may also find information on the acceptable documentation and other requirements for applying or registering for TPS on the USCIS Web site at www.uscis.gov/tps under “Yemen.”

Do I need to submit additional supporting documentation?

If one or more of the questions listed in Part 4, Question 2 of the Application for Temporary Protected Status (Form I-821) applies to you, then you must submit an explanation on a separate sheet(s) of paper and/or additional documentation.

Employment Authorization Document (EAD)

How can I obtain information on the status of my EAD request?

To get case status information about your TPS application, including the status of a request for an EAD, you can check Case Status Online at http://www.uscis.gov, or call the USCIS National Customer Service Center at 800-375-5283 (TTY 800-767-1833). If your Application for Employment Authorization (Form I-765) has been pending for more than 90 days and you still need assistance, you may request an EAD inquiry appointment with USCIS by using the InfoPass system at https://infopass.uscis.gov. However, we strongly encourage you first to check Case Status Online or call the USCIS National Customer Service Center for assistance before making an InfoPass appointment.

Am I eligible to receive an automatic 6-month extension of my current EAD through September 3, 2017?

Provided that you currently have a Yemen TPS-based EAD, this Notice automatically extends your EAD by 6 months if you:

• Are a national of Yemen (or an alien having no nationality who last habitually resided in Yemen);

• Received an EAD under the designation of Yemen for TPS; and

• Have an EAD with a marked expiration date of March 3, 2017, bearing the notation “A-12” or “C-19” on the face of the card under “Category.”

Although this Notice automatically extends your EAD through September 3, 2017, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization), or you may present an acceptable receipt for List A, List B, or List C documents as described in the Employment Eligibility Verification (Form I-9) Instructions. An EAD is an acceptable document under “List A.” Employers may not reject a document based on a future expiration date.

If your EAD has an expiration date of March 3, 2017, and states “A-12” or “C-19” under “Category,” it has been extended automatically for 6 months by virtue of this Federal Register Notice, and you may choose to present your EAD to your employer as proof of identity and employment authorization for Form I-9 through September 3, 2017 (see the subsection titled “How do my employer and I complete the Employment Eligibility Verification (Form I-9) using an automatically extended EAD for a new job?” for further information). To minimize confusion over this extension at the time of hire, you should explain to your employer that USCIS has automatically extended your EAD through September 3, 2017. You may also show your employer a copy of this Federal Register Notice confirming the automatic extension of employment authorization through September 3, 2017. As an alternative to presenting your automatically extended EAD, you may choose to present any other acceptable document from List A, a combination of one selection from List B and one selection from List C, or a valid receipt.

What documentation may I show my employer if I am already employed but my current TPS-related EAD is set to expire?

Even though EADs with an expiration date of March 3, 2017, that state “A-12” or “C-19” under “Category” have been automatically extended for 6 months by this Federal Register Notice, your employer will need to ask you about your continued employment authorization once March 3, 2017 is reached to meet its responsibilities for Employment Eligibility Verification (Form I-9). Your employer may need to re-inspect your automatically extended EAD to check the expiration date and code to record the updated expiration date on your Employment Eligibility Verification (Form I-9) if he or she did not keep a copy of this EAD when you initially presented it. However, your employer does not need a new document to re-verify your employment authorization until September 3, 2017, the expiration date of the automatic extension. Instead, you and your employer must make corrections to the employment authorization expiration dates in Section 1 and Section 2 of Employment Eligibility Verification (Form I-9) (see the subsection titled “What corrections should my current employer and I make to Employment Eligibility Verification (Form I-9) if my EAD has been automatically extended?” for further information). In addition, you may also show this Federal Register Notice to your employer to explain what to do for Employment Eligibility Verification (Form I-9).

By September 3, 2017, the expiration date of the automatic extension, your employer must re-verify your employment authorization. At that time, you must present any document from List A or any document from List C on Employment Eligibility Verification (Form I-9) to re-verify employment authorization, or an acceptable List A or List C receipt described in the Employment Eligibility Verification (Form I-9) Instructions. Your employer should complete either Section 3 of the Employment Eligibility Verification (Form I-9) originally completed for you or, if this Section has already been completed or if the version of Employment Eligibility Verification (Form I-9) has expired (check the date in the bottom left-hand corner of the form), complete Section 3 of a new Employment Eligibility Verification (Form I-9) using the most current version. Note that your employer may not specify which List A or List C document employees must present, and cannot reject an acceptable receipt.

Can my employer require that I provide any other documentation to prove my status, such as proof of my Yemeni citizenship?

No. When completing Employment Eligibility Verification (Form I-9), including re-verifying employment authorization, employers must accept any documentation that appears on the “Lists of Acceptable Documents” for Employment Eligibility Verification (Form I-9) that reasonably appears to be genuine and that relates to you, or an acceptable List A, List B, or List C receipt. Employers may not request documentation that does not appear on the “Lists of Acceptable Documents.” Therefore, employers may not request proof of Yemeni citizenship or proof of re-registration for TPS when completing Employment Eligibility Verification (Form I-9) for new hires or re-verifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after September 3, 2017 for purposes of employment authorization?

After September 3, 2017, employers may no longer accept the EADs that this Federal Register Notice automatically extended. Before that time, however, USCIS will endeavor to issue new EADs to eligible TPS re-registrants who request them. These new EADs will have an expiration date of September 3, 2018, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job prior to September 3, 2017, you and your employer should do the following:

1. For Section 1, you should:

a. Check “An alien authorized to work until” and write the automatically extended EAD expiration date (September 3, 2017) in the space provided; and

b. Write your alien number (USCIS number or A-number) in the next space (your EAD or other document from DHS will have your USCIS number or A-number printed on it; the USCIS number is the same as your A-number without the A prefix).

2. For Section 2, employers should record the:

a. Document title;

b. Issuing authority;

c. Document number; and

d. Automatically extended EAD expiration date (September 3, 2017).

By September 3, 2017, employers must re-verify the employee's employment authorization in Section 3 of the Employment Eligibility Verification (Form I-9).

What corrections should my current employer and I make to Employment Eligibility Verification (Form I-9) if my EAD has been automatically extended?

If you are an existing employee who presented a TPS-related EAD that was valid when you first started your job, but that EAD has now been automatically extended, your employer may need to re-inspect your automatically extended EAD if your employer does not have a copy of the EAD on file, and you and your employer should correct your previously completed Employment Eligibility Verification (Form I-9) as follows:

1. For Section 1, you should:

a. Draw a line through the expiration date in Section 1;

b. Write “September 3, 2017” above the previous date;

c. Write “TPS Ext.” in the margin of Section 1; and

d. Initial and date the correction in the margin of Section 1.

2. For Section 2, employers should:

a. Draw a line through the expiration date written in Section 2;

b. Write “September 3, 2017” above the previous date;

c. Write “TPS Ext.” in the margin of Section 2; and

d. Initial and date the correction in the margin of Section 2.

By September 3, 2017, when the automatic extension of EADs expires, employers must re-verify the employee's employment authorization in Section 3.

If I am an employer enrolled in E-Verify, what do I do when I receive a “Work Authorization Documents Expiration” alert for an automatically extended EAD?

E-Verify automated the verification process for employees whose TPS was automatically extended in a Federal Register Notice. If you have an employee who is a TPS beneficiary who provided a TPS-related EAD when he or she first started working for you, you will receive a “Work Authorization Documents Expiring” case alert when the auto-extension period for this EAD is about to expire. By September 3, 2017, employment authorization must be re-verified in Section 3. Employers should not use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process (Form I-9 and E-Verify), employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY 877-875-6028) or email at I-9Central@dhs.gov. Calls are accepted in English, and many other languages. Employees or applicants may also call the OSC Worker Information Hotline at 800-255-7688 (TTY 800-237-2515) for information regarding employment discrimination based upon citizenship, immigration status, or national origin, including discrimination related to Employment Eligibility Verification (Form I-9) and E-Verify. The OSC Worker Information Hotline provides language interpretation in numerous languages.

To comply with the law, employers must accept any document or combination of documents from the List of Acceptable Documents if the documentation reasonably appears to be genuine and to relate to the employee, or an acceptable List A, List B, or List C receipt as described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from Federal or state government records.

Employers may not terminate, suspend, delay training, withhold pay, lower pay, or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). To report an employer for discrimination in the E-Verify process based on citizenship or immigration status, or based on national origin, contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your EAD that has been automatically extended, or your EAD that has not expired;

(2) A copy of this Federal Register Notice if your EAD is automatically extended under this Notice;

(3) A copy of your Application for Temporary Protected Status Notice of Action (Form I-797) for this re-registration;

(4) A copy of your past or current Application for Temporary Protected Status Notice of Action (Form I-797), if you received one from USCIS; or

(5) If there is an automatic extension of work authorization, a copy of information from the USCIS TPS Web site that provides information on the automatic extension.

Check with the Government agency regarding which document(s) the agency will accept.

Some benefit-granting agencies use the USCIS Systematic Alien Verification for Entitlements (SAVE) program to confirm the current immigration status of applicants for public benefits. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE Web site at http://www.uscis.gov/save, then by choosing “For Benefits Applicants” from the menu on the left and selecting “Questions about your Records?”.

[FR Doc. 2016-31003 Filed 1-3-17; 8:45 am]

BILLING CODE 9111-97-P